DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security.

Title: Statement by Ultimate Consignee and Purchaser.

Form Number(s): BIS-711.

OMB Control Number: 0694-0021.

Type of Request: Regular submission.

Burden Hours: 76 hours.

Number of Respondents: 286 respondents.

Average Hours per Response: 16 minutes per response.

Needs and Uses: This collection is required by Section 748.11 of the Export Administration Regulations (EAR). The Form BIS-711 or letter puts the importer on notice of the special nature of the goods proposed for export and conveys a commitment against illegal disposition. In order to effectively control commodities, BIS must have sufficient information regarding the end-use and end-user of the U.S. origin commodities to be exported. The information will assist the licensing officer in making the proper decision on whether to approve or reject the application for the license.

Affected Public: Businesses and other for-profit institutions.

Frequency: On occasion.

Respondent's Obligation: Required to obtain benefits.

This information collection request may be viewed at www.reginfo.gov. Follow the instructions to view the Department of Commerce collections currently under review by OMB.

Written comments and recommendations for the proposed information collection should be sent within 30 days of publication of this notice to OIRA. Submission@omb.eop.gov or fax to (202) 395-5806.

Dated: June 24, 2015.
Sheleen Dumas,
Departmental PRA Lead, Office of the Chief Information Officer.

[FR Doc. 2015-15939 Filed 6-29-15; 8:45 am]

BILLING CODE 3510-33-P